DEPARTMENT OF TRANSPORTATION

Federal Highway Administration

Notice of Availability of the Record of Decision for the Little Cottonwood Canyon Project in Utah and Final Federal Agency Actions

AGENCY: Federal Highway Administration (FHWA), Department of Transportation, Utah Department of Transportation (UDOT).

ACTION: Notice of Availability and Notice of Limitations on Claims for Judicial Review of Actions by UDOT and Other Federal Agencies.

SUMMARY: The FHWA, on behalf of UDOT, is issuing this notice to announce the availability of the Record of Decision (ROD) for the Little Cottonwood Canyon Project, State Route 210 (SR-210), Wasatch Boulevard through the Town of Alta, in Salt Lake County, Utah. In addition, this notice is being issued to announce actions taken by UDOT that are final Federal agency actions related to the project referenced above. Those actions grant licenses, permits and/or approvals for the project. The ROD provides details on the Selected Alternative for the proposed improvements.

DATES: This decision became operative on June 29, 2023. By this notice, FHWA, on behalf of UDOT, is advising the public of final agency actions subject to 23 U.S.C. 139(l)(1). A claim seeking judicial review of the Federal agency actions on the highway project will be barred unless the claim is filed on or before December 11, 2023. If the Federal law that authorizes judicial review of a claim provides a time period of less than 150 days for filing such claim, then that shorter time period still applies.

FOR FURTHER INFORMATION CONTACT: Carissa Watanabe, Environmental Program Manager, UDOT Environmental Services, P.O. Box 143600, Salt Lake City, UT 84114; (503) 939-3798; email: cwatanabe@utah.gov. UDOT's normal business hours are 8 a.m. to 5 p.m. (Mountain Time Zone), Monday through Friday, except State and Federal holidays.

SUPPLEMENTARY INFORMATION: The environmental review, consultation, and other actions required by applicable Federal environmental laws for this action are being, or have been, carried out by UDOT pursuant to 23 U.S.C. 327 and a Memorandum of Understanding (MOU) dated May 26, 2022, and executed by FHWA and UDOT. Actions taken by UDOT on FHWA's behalf pursuant to 23 U.S.C. 327 constitute Federal agency actions for purposes of Federal law. Notice is hereby given that UDOT has taken final agency actions subject to 23 U.S.C. 139(l)(1) by issuing licenses, permits, and approvals for the Little Cottonwood Canyon project in the State of Utah.

UDOT's purpose for this project is to substantially improve roadway safety, reliability, and mobility on SR-210 from Fort Union Boulevard through the town of Alta for all users on SR-210. UDOT has selected Gondola Alternative B as the selected primary alternative (which includes tolling as a travel demand management strategy) with phased implementation of components of the Enhanced Bus Service Alternative. Gondola Alternative B includes a gondola alignment from a proposed development south of North Little Cottonwood Road and east of the La Caille restaurant to both the Snowbird and Alta ski resorts. The Gondola Alternative B includes a 2,500-space parking structure at the base station, a new base station access road, and roadway improvements to SR-210. UDOT will implement the following components of the Enhanced Bus Service Alternative: Improved and Increased Bus Service, Resort Bus Stops and a Bus Maintenance and Storage Facility. UDOT has selected the following sub-alternatives as supporting elements: the Five-lane Alternative on Wasatch Boulevard Alternative; Snow Sheds with Realigned Road Alternative; Trailhead Improvements and No Roadside Parking within ¼ mile of Trailheads Alternative; No Winter Parking Alternative; and the Gravel Pit Mobility Hub.

The project will be constructed in three phases. Phase 1 will consist of Improved and Increased Bus Service, a mobility hub at the gravel pit, and bus stops at the Snowbird and Alta ski resorts. To make the bus service attractive to use, tolling will be implemented to coincide with the start of the bus service in Phase 1. The No Winter Parking Alternative will be implemented after bus service is operating, and would continue while the Gondola Alternative B is operating. Phase 2 will involve constructing the Snow Sheds with Realigned Road Alternative, the Wasatch Boulevard Alternative, and Trailhead Improvements and No Roadside Parking within ¼ Mile of Trailheads Alternative. Phase 2 implementation will depend on available funding. Phase 3 will involve constructing Gondola Alternative B and its supporting infrastructure (base station parking and access roads). Phase 3 implementation will depend on available funding.

The project is identified in UDOT's adopted 2023-2028 State Transportation Improvement Program as project number 17374 with funding identified for final design and construction of Phase 1 elements. The project is also included in the Wasatch Front Regional Council's (WFRC) 2023-2050 Wasatch Front Regional Transportation Plan approved in May 2023 and the WFRC 2023-2028 Transportation Improvement Program (Amendment Nine).

The actions by UDOT, and the laws under which such actions were taken, are described in the EIS approved on August 15, 2022, and the ROD (Record of Decision for Little Cottonwood Canyon Project, State Route 210 (SR-210), Wasatch Boulevard through the Town of Alta, in Cottonwood Heights, Sandy, the Town of Alta and Salt Lake County, Utah, Project No. S-R299(281)) approved on June 29, 2023, and other documents in the UDOT project records. The ROD is available for review at the UDOT Central Complex, 4501 South 2700 West, Salt Lake City, Utah. In addition, the EIS and ROD documents can be viewed and downloaded from the project website at https://littlecottonwoodeis.udot.utah.gov/. This notice applies to the EIS, the ROD, and all other UDOT and federal agency decisions and other actions with respect to the project as of the issuance date of this notice and all laws under which such actions were taken, including but not limited to the following laws (including their implementing regulations):

1. General: National Environmental Policy Act [42 U.S.C. 4321-4351]; Federal-Aid Highway Act [23 U.S.C. 109 and 23 U.S.C. 128]; MAP-21, the Moving Ahead for Progress in the 21st Century Act [Pub. L. 112-141].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Fish and Wildlife Coordination Act [16 U.S.C. 661-667(d)]; Migratory Bird Treaty Act [16 U.S.C. 703-712]; The Bald and Golden Eagle Protection Act [16 U.S.C. 668].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Zone Management Act [16 U.S.C. 1451-1465]; Land and Water Conservation Fund (LWCF) [16 U.S.C. 4601-4604]; Safe Drinking Water Act (SDWA) [42 U.S.C. 300(f) -300(j)(6)]; Rivers and Harbors Act of 1899 [33 U.S.C. 401-406]; Emergency Wetlands Resources Act [16 U.S.C. 3921, 3931]; TEA-21 Wetlands Mitigation [23 U.S.C. 103(b)(6)(M, 133(b)(11)]; Flood Disaster Protection Act [42 U.S.C. 4001-4128].

8. Hazardous Materials: Comprehensive Environmental Response, Compensation, and Liability Act [42 U.S.C. 9601-9675]; Superfund Amendments and Reauthorization Act of 1986; Resource Conservation and Recovery Act [42 U.S.C. 6901-6992(k)].

9. Noise: Federal-Aid Highway Act of 1970, Public Law 91-605 [84 Stat. 1713]; [23 U.S.C. 109(h) & (i)].

10. Executive Orders: E.O. 11990 Protection of Wetlands; E.O. 11988 Floodplain Management; E.O. 12898, Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

(Authority: 23 U.S.C. 139 (l)(1))

Issued on: July 11, 2023.
Ivan Marrero,
Division Administrator, Federal Highway Administration, Salt Lake City, Utah.

[FR Doc. 2023-14992 Filed 7-13-23; 8:45 am]

BILLING CODE 4910-RY-P